DEPARTMENT OF THE INTERIOR

Minerals Management Service

Outer Continental Shelf (OCS), Western and Central Gulf of Mexico (GOM), Oil and Gas Lease Sales for Years 2007-2012

AGENCY: Minerals Management Service (MMS), Interior.

ACTION: Notice of availability (NOA) of the final environmental impact statement.

SUMMARY: The MMS has prepared a final environmental impact statement (EIS) on tentatively scheduled 2007-2012 oil and gas leasing proposals in the Western and Central GOM, off the States of Texas, Louisiana, Mississippi, and Alabama.

Authority: The NOA is published pursuant to the regulations (40 CFR 1501.7) implementing the provisions of the National Environmental Policy Act (NEPA) of 1969 as amended (42 U.S.C. 4321 et seq. (1988)).

SUPPLEMENTARY INFORMATION: Federal regulations allow for several proposals to be analyzed in one EIS (40 CFR 1502.4). Since each sale proposal and projected activities are very similar each year for each sale area, the MMS has prepared a single EIS (multisale EIS) for the five Western and six Central GOM lease sales scheduled for 2007-2012 in the proposed OCS Oil and Gas Leasing Program: 2007-2012. Although this EIS addresses 11 proposed lease sales, at the completion of this EIS process, decisions will be made only for proposed Lease Sale 204 in the Western Planning Area (WPA) and proposed Lease Sale 205 in the Central Planning Area (CPA). Subsequent to these first sales, a NEPA review will be conducted for each of the other proposed lease sales in the 2007-2012 Leasing Program. Formal consultation with other Federal Agencies, the affected states, and the public will be carried out to assist in the determination of whether or not the information and analyses in the original multisale EIS are still valid. These consultations and NEPA reviews will be completed before decisions are made on the subsequent sales.

EIS Availability: To obtain a single printed or CD-ROM copy of the Final EIS, you may contact the Minerals Management Service, Gulf of Mexico OCS Region, Public Information Office (MS 5034), 1201 Elmwood Park Boulevard, Room 114, New Orleans, Louisiana 70123-2394 (1-800-200-GULF). An electronic copy of the Final EIS is available at the MMS's Internet Web site at http://www.gomr.mms.gov/homepg/regulate/environ/nepa/nepaprocess.html. Several libraries along the Gulf Coast have been sent copies of the Final EIS. To find out which libraries, and their locations, have copies of the Final EIS for review, you may contact the MMS's Public Information Office or visit the MMS Internet Web site at http://www.gomr.mms.gov/homepg/regulate/environ/libraries.html.

Comments: Federal, State, and local government agencies and other interested parties are requested to send their written comments on the Final EIS in one of the following two ways:

1. In written form enclosed in an envelope labeled “Comments on the Multisale EIS” and mailed (or hand carried) to the Regional Supervisor, Leasing and Environment (MS 5410), Minerals Management Service, Gulf of Mexico OCS Region, 1201 Elmwood Park Boulevard, New Orleans, Louisiana 70123-2394.

2. Electronically to the MMS e-mail address: environment@mms.gov.

Comments should be submitted no later than May 14, 2007.

FOR FURTHER INFORMATION CONTACT: Minerals Management Service, Mr. Dennis Chew, Gulf of Mexico OCS Region, 1201 Elmwood Park Boulevard, New Orleans, Louisiana 70123-2394, (504) 736-2793.

Dated: March 13, 2007.
Chris C. Oynes,
Associate Director for Offshore Minerals Management.

[FR Doc. E7-7031 Filed 4-12-07; 8:45 am]

BILLING CODE 4310-MR-P